DEPARTMENT OF TRANSPORTATION

Federal Aviation Administration

14 CFR Part 39

[Docket No. FAA-2007-27010; Directorate Identifier 2006-NM-259-AD]

RIN 2120-AA64

Airworthiness Directives; Airbus Model A300 Airplanes; Model A310 Airplanes; and Model A300 B4-600, B4-600R, and F4-600R Series Airplanes, and Model C4-605R Variant F Airplanes (Collectively Called A300-600 Series Airplanes)

AGENCY: Federal Aviation Administration (FAA), Department of Transportation (DOT).

ACTION: Notice of proposed rulemaking (NPRM).

SUMMARY: The FAA proposes to supersede an existing airworthiness directive (AD) that applies to all Airbus Model A300 airplanes and Model A310 airplanes, and certain Airbus Model A300-600 series airplanes. The existing AD currently requires an inspection of the wing and center fuel tanks to determine if certain P-clips are installed and corrective action if necessary; an inspection of electrical bonding points of certain equipment in the center fuel tank for the presence of a blue coat and related investigative and corrective actions if necessary; and installation of new bonding leads and electrical bonding points on certain equipment in the wing, center, and trim fuel tanks, as necessary. This proposed AD would require, for certain airplanes, installation of bonding on an additional bracket. This proposed AD results from fuel system reviews conducted by the manufacturer. We are proposing this AD to ensure continuous electrical bonding protection of equipment in the wing, center, and trim fuel tanks and to prevent damage to wiring in the wing and center fuel tanks, due to failed P-clips used for retaining the wiring and pipes, which could result in a possible fuel ignition source in the fuel tanks.

DATES: We must receive comments on this proposed AD by February 26, 2007.

ADDRESSES: Use one of the following addresses to submit comments on this proposed AD.

• DOT Docket web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Comments Invited

We invite you to submit any relevant written data, views, or arguments regarding this proposed AD. Send your comments to an address listed in the ADDRESSES section. Include the docket number “Docket No. FAA-2007-27010; Directorate Identifier 2006-NM-259-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On July 14, 2006, we issued AD 2006-15-09, amendment 39-14689 (71 FR 42026, July 25, 2006), for all Airbus Model A300 airplanes and Model A310 airplanes, and for certain Airbus Model A300-600 series airplanes. That AD requires an inspection of the wing and center fuel tanks to determine if certain P-clips are installed and corrective action if necessary. That AD also requires an inspection of electrical bonding points of certain equipment in the center fuel tank for the presence of a blue coat and related investigative and corrective actions if necessary. That AD also requires installation of new bonding leads and electrical bonding points on certain equipment in the wing, center, and trim fuel tanks, as necessary. That AD resulted from fuel system reviews conducted by the manufacturer. We issued that AD to ensure continuous electrical bonding protection of equipment in the wing, center, and trim fuel tanks and to prevent damage to wiring in the wing and center fuel tanks, due to failed P-clips used for retaining the wiring and pipes, which could result in a possible fuel ignition source in the fuel tanks.

Actions Since Existing AD Was Issued

Since we issued AD 2006-15-09, the manufacturer has issued new service information, described below, that specifies the additional work of installing bonding on the slat track 11 canister bracket for all Model A310 airplanes.

Relevant Service Information

Airbus has issued Service Bulletins A300-28-0079, Revision 01, dated June 6, 2006; and A310-28-2142, Revision 01, dated July 17, 2006. We referred to the original issues of these service bulletins in AD 2006-15-09 as the appropriate sources of service information for installing bonding leads and points for wing and center fuel tanks for all Model A300 and A310 airplanes. The procedures in these service bulletins are essentially the same as the procedures in the original issues of the service bulletins, except Revision 01 of Airbus Service Bulletin A310-28-2142 specifies the additional work of installing bonding on the slat track 11 canister bracket for all Model A310 airplanes.

The European Aviation Safety Agency (EASA), which is the airworthiness authority for the European Union, mandated the service bulletins and issued airworthiness directive 2006-0325, dated October 23, 2006, to ensure the continued airworthiness of these airplanes in the European Union. Since AD 2006-15-09 was issued, EASA has assumed responsibility for the airplane models subject to this AD. Therefore, this EASA airworthiness directive supersedes French airworthiness directive F-2006-031, dated February 1, 2006, which is the parallel French airworthiness directive to AD 2006-15-09.

FAA's Determination and Requirements of the Proposed AD

These airplane models are manufactured in France and are type certificated for operation in the United States under the provisions of § 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for airplanes of this type design that are certificated for operation in the United States.

This proposed AD would supersede AD 2006-15-09 and would retain the requirements of the existing AD. This proposed AD would also require installing bonding on the slat track 11 canister bracket for all Model A310 airplanes.

Costs of Compliance

There are about 29 Model A300 airplanes, 63 Model A310 airplanes, and 102 Model A300-600 series airplanes of the affected design in the U.S. fleet. The following table provides the estimated costs, at an average labor rate of $80 per hour, for U.S. operators to comply with this proposed AD. For some actions, the estimated work hours and cost of parts in the following table depend on the airplane configuration.

Estimated Costs
Model | Action | Work hours | Parts | Cost per airplane | Number of U.S.-registered airplanes | Fleet cost
A300 airplanes | Inspect wing and center fuel tanks for P-clips (required by AD 2006-15-09) | 40 | (¹) | $3,200 | 29 | $92,800
| Install bonding leads/points in wing and center fuel tanks (required by AD 2006-15-09) | 136-155 | 3,800-5,200 | 14,680-17,600 | 29 | 425,720-510,400
A310 airplanes | Inspect wing and center fuel tanks for P-clips (required by AD 2006-15-09) | 40 | (¹) | 3,200 | 63 | 201,600
| Install bonding leads/points in wing and center fuel tanks (required by AD 2006-15-09) | 248-285 | 8,840-9,190 | 28,680-31,990 | 63 | 1,806,840-2,015,370
| Install bonding for slat track 11 canister bracket (new proposed action) | 2 | 30 | 190 | 63 | 11,970
| Inspect and install bonding leads/points in the trim fuel tank (required by AD 2006-15-09) | 53-61 | 50-70 | 4,290-4,950 | 63 | 270,270-311,850
A300-600 series airplanes | Inspect wing and center fuel tanks for P-clips (required by AD 2006-15-09) | 40 | (¹) | 3,200 | 102 | 326,400
| Install bonding leads/points in wing and center fuel tanks (required by AD 2006-15-09) | 157-185 | 8,840-9,190 | 21,400-23,990 | 102 | 2,182,800-2,446,980
| Inspect and install bonding leads/points in the trim fuel tank (required by AD 2006-15-09) | 2-61 | 50-70 | 210-4,950 | 102 | 21,420-504,900
¹ None.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14689 (71 FR 42026, July 25, 2006) and adding the following new airworthiness directive (AD):

Airbus: Docket No. FAA-2007-27010; Directorate Identifier 2006-NM-259-AD.

Comments Due Date

(a) The FAA must receive comments on this AD action by February 26, 2007.

Affected ADs

(b) This AD supersedes AD 2006-15-09.

Applicability

(c) This AD applies to the Airbus airplanes identified in paragraphs (c)(1) and (c)(2) of this AD, certificated in any category.

(1) All Model A300 airplanes and Model A310 airplanes.

(2) Model A300 B4-601, B4-603, B4-620, and B4-622 airplanes; Model A300 B4-605R and B4-622R airplanes; Model A300 F4-605R and F4-622R airplanes; and Model A300 C4-605R Variant F airplanes; except those airplanes identified in paragraphs (c)(2)(i) and (c)(2)(ii) of this AD.

(i) Airplanes not equipped with trim fuel tanks on which Airbus Modifications 12226, 12365, and 12308 have been incorporated in production.

(ii) Airplanes equipped with trim fuel tanks on which Airbus Modifications 12226, 12365, 12308, 12294, and 12476 have been incorporated in production.

Unsafe Condition

(d) This AD results from fuel system reviews conducted by the manufacturer. We are issuing this AD to ensure continuous electrical bonding protection of equipment in the wing, center, and trim fuel tanks and to prevent damage to wiring in the wing and center fuel tanks, due to failed P-clips used for retaining the wiring and pipes, which could result in a possible fuel ignition source in the fuel tanks.

Compliance

(e) You are responsible for having the actions required by this AD performed within the compliance times specified, unless the actions have already been done.

Restatement of the Requirements of AD 2006-15-09

Service Bulletin References

(f) The term “service bulletin,” as used in this AD, means the Accomplishment Instructions of the service bulletins identified in Table 1 of this AD, as applicable.

Table 1.—Service Bulletin References
For Airbus— | And the actions specified in— | Use Airbus Service Bulletin— | Dated—
Model A300 airplanes | paragraph (g) of this AD paragraph (h) of this AD | A300-28-0081 A300-28-0079 | July 20, 2005. September 29, 2005; or Revision 01, dated June 6, 2006. After the effective date of this AD, only Revision 01 may be used.
Model A310 airplanes | paragraph (g) of this AD | A310-28-2143 | July 20, 2005.
| paragraph (h) of this AD | A310-28-2142 | August 26, 2005; or Revision 01, dated July 17, 2006. After the effective date of this AD, only Revision 01 may be used.
| paragraph (i) of this AD | A310-28-2153 | July 20, 2005.
Model A300 B4-601, B4-603, B4-620, and B4-622 airplanes; Model A300 B4-605R and B4-622R airplanes; Model A300 F4-605R and F4-622R airplanes; and Model A300 C4-605R Variant F airplanes | paragraph (g) of this AD paragraph (h) of this AD paragraph (i) of this AD | A300-28-6068 A300-28-6064 A300-28-6077 | July 20, 2005. July 28, 2005. July 25, 2005.

Inspection and Corrective Actions

(g) Within 59 months after August 29, 2006 (the effective date of AD 2006-15-09): Do a general visual inspection of the right and left wing fuel tanks and center fuel tank, if applicable, to determine if any NSA5516-XXND- and NSA5516-XXNJ-type P-clips are installed for retaining wiring and pipes in any tank, and do all applicable corrective actions before further flight after the inspection, by accomplishing all the actions specified in the service bulletin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Installation of Bonding Leads and Points for Wing and Center Fuel Tanks

(h) Within 59 months after August 29, 2006: Do the actions specified in paragraphs (h)(1) and (h)(2) of this AD, by accomplishing all the actions specified in the service bulletin.

(1) In the center fuel tank, if applicable, do a general visual inspection of the electrical bonding points of the equipment identified in the service bulletin for the presence of a blue coat, and do all related investigative and corrective actions before further flight after the inspection.

(2) In the left and right wing fuel tanks and center fuel tank, if applicable, install bonding leads and electrical bonding points on the equipment identified in the service bulletin.

Installation of Bonding Leads and Points for the Trim Fuel Tank

(i) For Model A310 airplanes; Model A300 B4-601, B4-603, B4-620, and B4-622 airplanes; Model A300 B4-605R and B4-622R airplanes; Model A300 F4-605R and F4-622R airplanes; and Model A300 C4-605R Variant F airplanes; equipped with a trim fuel tank: Within 59 months after August 29, 2006, install a new bonding lead(s) on the water drain system of the trim fuel tank and install electrical bonding points on the equipment identified in the service bulletin in the trim fuel tank, by accomplishing all the actions specified in the service bulletin, as applicable.

New Requirements of This AD

Installation of Bonding for Slat Track 11 Canister Bracket

(j) For Model A310 airplanes on which the actions specified in Airbus Service Bulletin A310-28-2142, dated August 26, 2005, have been done before the effective date of this AD: Within 50 months after the effective date of this AD, install bonding for slat track 11 canister bracket, in accordance with the Accomplishment Instructions of Airbus Service Bulletin A310-28-2142, Revision 01, dated July 17, 2006.

Parts Installation

(k) As of August 29, 2006, no person may install any NSA5516-XXND- or NSA5516-XXNJ-type P-clip for retaining wiring and pipes in any wing, center, or trim fuel tank, on any airplane.

Alternative Methods of Compliance (AMOCs)

(l)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2006-15-09, are approved as AMOCs for the corresponding provisions of this AD.

Related Information

(m) European Aviation Safety Agency (EASA) airworthiness directive 2006-0325, dated October 23, 2006, also addresses the subject of this AD.

Issued in Renton, Washington, on January 12, 2007.
Ali Bahrami,
Manager, Transport Airplane Directorate, Aircraft Certification Service.

[FR Doc. E7-1092 Filed 1-24-07; 8:45 am]

BILLING CODE 4910-13-P